DEPARTMENT OF COMMERCE

National Institute of Standards and Technology

Announcing the First Symposium on Building Trust and Confidence in Voting Systems

AGENCY: National Institute of Standards and Technology (NIST), Commerce.

ACTION: Notice of public symposium.

SUMMARY: The Help America Vote Act of 2002 (“HAVA”) tasks the National Institute of Standards and Technology with assisting the Election Assistance Commission in the development of voluntary voting system guidelines. The First Symposium on Building Trust and Confidence in Systems offers the election community an opportunity to initiate collaboration prior to the implementation of HAVA. Four panel discussions will focus on the following key issues for improving voting systems: Specification, testability and qualification; security and openness; usability and accessibility; next steps/consensus issues. A draft agenda and invited panelists for the Symposium will be available at the NIST Web site at: http://vote.nist.gov by November 15, 2003.

DATES: The Symposium will be held on December 10 and 11, 2003, from 8:30 a.m. to 5:30 p.m.

ADDRESSES: The Symposium will be held in the Red Auditorium, Building 101 at the National Institute of Standards and Technology, 100 Bureau Drive, Gaithersburg, Maryland.

FOR FURTHER INFORMATION CONTACT: Additional information and electronic registration is available at the NIST Web site http://vote.nist.gov or by contacting Kimberly Snouffer on 301-975-2776. Because of NIST security regulations, advance registration is required. There will be no same day, on-site registration.

Dated: November 5, 2003.
Arden L. Bement, Jr.,
Director.

[FR Doc. 03-28552 Filed 11-13-03; 8:45 am]

BILLING CODE 3510-13-P